DEPARTMENT OF ENERGY

Federal Energy Regulatory Commission

Combined Notice of Filings #1

Take notice that the Commission received the following electric corporate filings:

Docket Numbers: EC25-117-000.

Applicants: Blue Harvest Solar Park LLC, EDPR CA Solar Park LLC, EDPR CA Solar Park II LLC, Innovative Solar 42, LLC, Sandrini BESS Storage LLC, Timber Road Solar Park LLC.

Description: Joint Application for Authorization Under Section 203 of the Federal Power Act of Blue Harvest Solar Park LLC, et al.

Filed Date: 7/17/25.

Accession Number: 20250717-5160.

Comment Date: 5 p.m. ET 8/7/25.

Take notice that the Commission received the following exempt wholesale generator filings:

Docket Numbers: EG25-398-000.

Applicants: Solar DG NM Amalia, LLC.

Description: Solar DG NM Amalia, LLC submits Notice of Self-Certification of Exempt Wholesale Generator Status.

Filed Date: 7/22/25.

Accession Number: 20250722-5099.

Comment Date: 5 p.m. ET 8/12/25.

Docket Numbers: EG25-399-000.

Applicants: Titan Solar Energy, LLC.

Description: Titan Solar Energy, LLC submits Notice of Self-Certification of Exempt Wholesale Generator Status.

Filed Date: 7/22/25.

Accession Number: 20250722-5136.

Comment Date: 5 p.m. ET 8/12/25.

Take notice that the Commission received the following electric rate filings:

Docket Numbers: ER10-1781-011; ER19-2626-013; ER21-714-014; ER22-381-018; ER22-399-009; ER23-2321-009; ER25-2081-001.

Applicants: Fairbanks Solar Energy Center LLC, Dunns Bridge Energy Storage, LLC, Meadow Lake Solar Park LLC, Dunns Bridge Solar Center, LLC, Indiana Crossroads Wind Farm LLC, Rosewater Wind Farm LLC, Northern Indiana Public Service Company.

Description: Notice of Non-Material Change in Status and Market-Based Rate Tariff Revisions of Northern Indiana Public Service Company, et al.

Filed Date: 7/17/25.

Accession Number: 20250717-5163.

Comment Date: 5 p.m. ET 8/7/25.

Docket Numbers: ER25-7-001; ER22-1101-003; ER22-1102-003.

Applicants: Sierra Energy Storage, LLC, Cascade Energy Storage, LLC, Cascade Energy Storage II LLC.

Description: Notice of Change in Status of Cascade Energy Storage II LLC, et al. under ER25-7, et al.

Filed Date: 7/17/25.

Accession Number: 20250717-5162.

Comment Date: 5 p.m. ET 8/7/25.

Docket Numbers: ER25-2312-001.

Applicants: Midcontinent Grid Solutions Iowa, LLC.

Description: Tariff Amendment: Formula Rate Deferral Filing to be effective 12/31/9998.

Filed Date: 7/22/25.

Accession Number: 20250722-5092.

Comment Date: 5 p.m. ET 8/12/25.

Docket Numbers: ER25-2538-001.

Applicants: Southwest Power Pool, Inc.

Description: Tariff Amendment: 3125R19 Basin Electric Power Cooperative NITSA and NOA Amended to be effective 6/1/2025.

Filed Date: 7/22/25.

Accession Number: 20250722-5033.

Comment Date: 5 p.m. ET 8/12/25.

Docket Numbers: ER25-2906-000.

Applicants: PJM Interconnection, L.L.C.

Description: 205(d) Rate Filing: Notice of Cancellation of ISA, SA No. 6751; Queue No. AD1-043 to be effective 8/15/2025.

Filed Date: 7/21/25.

Accession Number: 20250721-5109.

Comment Date: 5 p.m. ET 8/11/25.

Docket Numbers: ER25-2907-000.

Applicants: PJM Interconnection, L.L.C.

Description: Tariff Amendment: Notice of Cancellation of ISA, Service Agreement No. 6724; Queue No. NQ186 to be effective 4/1/2025.

Filed Date: 7/22/25.

Accession Number: 20250722-5030.

Comment Date: 5 p.m. ET 8/12/25.

Docket Numbers: ER25-2908-000.

Applicants: PJM Interconnection, L.L.C.

Description: Tariff Amendment: PJM Interconnection, L.L.C. submits tariff filing per 35.15: Notice of Cancellation of ISA, Service Agreement No. 3679; Queue No. Y2-001 to be effective 7/15/2025.

Filed Date: 7/22/25.

Accession Number: 20250722-5031.

Comment Date: 5 p.m. ET 8/12/25.

Docket Numbers: ER25-2909-000.

Applicants: Tri-State Generation and Transmission Association, Inc.

Description: 205(d) Rate Filing: Tri-State Generation and Transmission Association, Inc. submits tariff filing per 35.13(a)(2)(iii: Amendment to Rate Schedule FERC No. 346 to be effective 9/22/2025.

Filed Date: 7/22/25.

Accession Number: 20250722-5041.

Comment Date: 5 p.m. ET 8/12/25.

Docket Numbers: ER25-2910-000.

Applicants: 25 Mile Creek Windfarm LLC.

Description: 205(d) Rate Filing: 25 Mile Creek Windfarm LLC Revised MBR Tariff to be effective 7/23/2025.

Filed Date: 7/22/25.

Accession Number: 20250722-5042.

Comment Date: 5 p.m. ET 8/12/25.

Docket Numbers: ER25-2911-000.

Applicants: Alta Farms Wind Project II, LLC.

Description: 205(d) Rate Filing: Alta Farms Wind Project II, LLC Revised MBR Tariff to be effective 7/23/2025.

Filed Date: 7/22/25.

Accession Number: 20250722-5043.

Comment Date: 5 p.m. ET 8/12/25.

Docket Numbers: ER25-2912-000.

Applicants: Aurora Wind Project, LLC.

Description: 205(d) Rate Filing: Aurora Wind Project, LLC Revised MBR Tariff to be effective 7/23/2025.

Filed Date: 7/22/25.

Accession Number: 20250722-5044.

Comment Date: 5 p.m. ET 8/12/25.

Docket Numbers: ER25-2913-000.

Applicants: Buffalo Dunes Wind Project, LLC.

Description: 205(d) Rate Filing: Buffalo Dunes Wind Project, LLC Revised MBR Tariff to be effective 7/23/2025.

Filed Date: 7/22/25.

Accession Number: 20250722-5046.

Comment Date: 5 p.m. ET 8/12/25.

Docket Numbers: ER25-2914-000.

Applicants: Canastota Windpower, LLC.

Description: 205(d) Rate Filing: Canastota Windpower, LLC Revised MBR Tariff to be effective 7/23/2025.

Filed Date: 7/22/25.

Accession Number: 20250722-5048.

Comment Date: 5 p.m. ET 8/12/25.

Docket Numbers: ER25-2915-000.

Applicants: Caney River Wind Project, LLC.

Description: 205(d) Rate Filing: Caney River Wind Project, LLC Revised MBR Tariff to be effective 7/23/2025.

Filed Date: 7/22/25.

Accession Number: 20250722-5061.

Comment Date: 5 p.m. ET 8/12/25.

Docket Numbers: ER25-2916-000.

Applicants: Chisholm View Wind Project II, LLC.

Description: 205(d) Rate Filing: Chisholm View Wind Project II, LLC Revised MBR Tariff to be effective 7/23/2025.

Filed Date: 7/22/25.

Accession Number: 20250722-5051.

Comment Date: 5 p.m. ET 8/12/25.

Docket Numbers: ER25-2917-000.

Applicants: Chisholm View Wind Project, LLC.

Description: 205(d) Rate Filing: Chisholm View Wind Project, LLC Revised MBR Tariff to be effective 7/23/2025.

Filed Date: 7/22/25.

Accession Number: 20250722-5054.

Comment Date: 5 p.m. ET 8/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 22, 2025.
Carlos D. Clay,
Deputy Secretary.

[FR Doc. 2025-14072 Filed 7-24-25; 8:45 am]

BILLING CODE 6717-01-P